ENVIRONMENTAL PROTECTION AGENCY

[OPP-2004-0419; FRL-7947-7]

Agency Information Collection Activities; Submission to OMB; Comment Request; EPA ICR Number 0277.14; OMB Control Number 2070-0060; Application for New and Amended Pesticide Registration

AGENCY: Environmental Protection Agency.

ACTION: Notice.

SUMMARY: In compliance with the Paperwork Reduction Act (44 U.S.C. 3501 et seq.), this document announces that an Information Collection Request (ICR) has been forwarded to the Office of Management and Budget (OMB) for review and approval: Application for New and Amended Pesticide Registration; EPA ICR Number 0277.14; OMB Control Number 2070-0060. The ICR, which is abstracted below, describes the nature of the information collection activity and its expected burden and costs.

DATES: Additional comments may be submitted on or before September 2, 2005.

ADDRESSES: Submit your comments, referencing docket ID number OPP-2004-0419, to (1) EPA online using EDOCKET (our preferred method), by email to http://www.epa.gov/edocket, or by mail to: EPA Docket Center, Environmental Protection Agency, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Cameo G. Smoot, Field and External Affairs Division, Office of Pesticide Programs, 7506C, Environmental Protection Agency, 1200 Pennsylvania Ave., NW., Washington, DC 20460; telephone number: 703-305-5454; fax number: 703-305-5884; email address: smoot.cameo@epa.gov.

SUPPLEMENTARY INFORMATION: EPA has submitted the following ICR to OMB for review and approval according to the procedures prescribed in 5 CFR 1320.12. The Federal Register document, required under 5 CFR 1320.8(d), soliciting comments on this collection of information was published on February 9, 2005 (70 FR 6860). EPA received two comments on this ICR during the 60-day comment period and has addressed them in the ICR.

EPA has established a public docket for this ICR under Docket ID No. OPP-2004-0419, which is available for public viewing at the Public Information and Records Integrity Branch, Office of Pesticide Programs Docket, Rm. 119, Crystal Mall #2, 1801 S. Bell St., Arlington, VA. This docket facility is open from 8:30 a.m. to 4 p.m., Monday through Friday, excluding legal holidays. The docket telephone number is 703-305-5805. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

ICR Title: Application for New and Amended Pesticide Registration

ICR Status: This is a request to renew an existing approved collection. This ICR is scheduled to expire on October 31, 2005. Under OMB regulations, the Agency may continue to conduct or sponsor the collection of information while this submission is pending at OMB. This ICR describes the nature of the information collection and its estimated burden and cost.

Abstract: This data collection program is designed to provide the Environmental Protection Agency (EPA) with necessary data to evaluate an application of a pesticide product as required under Section 3 of the Federal Insecticide, Fungicide, and Rodenticide Act (FIFRA).

An individual or entity wanting to obtain a registration for a pesticide product must submit an application package consisting of information relating to the identity and composition of the product, proposed labeling, and supporting data (or compensation for others' data) for the product as outlined in 40 CFR part 158. The EPA bases registration decisions for pesticides on its evaluation of a battery of test data provided primarily by applicants for registration. Required studies include testing to show whether a pesticide has the potential to cause unreasonable adverse human health or environmental effects. The Agency currently collects data on physical chemistry, acute and chronic toxicology, environmental fate, ecological effects, worker exposure, residue chemistry, environmental chemistry, and product performance. Respondents to this information collection activity typically complete and submit to EPA one or more forms, in addition to the required data, with their application for registration. If EPA's evaluation of the data show that the statutory requirements of FIFRA are met, then a registration is approved. Under FIFRA, all pesticides must be registered by EPA before they may be sold or distributed in U.S. commerce.

Registrants of EPA-registered pesticide products at times become subject to regulations, such as 40 CFR part 156, or guidance that include labeling revisions. The revised labeling is submitted as an amendment to the Agency along with the completed application form (EPA Form 8570-1). Normally, data are not required or reviewed for revised labeling regulations or guidance; however, it is necessary that the revised labeling be reviewed and approved. This review is most often accomplished by a Product Manager or Team Leader to ensure that revisions are in compliance with the applicable labeling requirement or guidance.

Responses to this information collection activity are required in order to obtain or retain a benefit. An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to be 152,974 hours. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The following is a summary of the burden estimates taken from the ICR: Respondents/Affected Entities: Pesticide and other agricultural chemical manufacturing (NAICS 325320), e.g., Businesses engaged in the manufacture of pesticides.

Estimated number of respondents: 2100.

Frequency of response: On occasion.

Estimated total annual burden hours: 152,974.

Estimated total annual labor cost: $15,811,472.

Changes in the ICR since the last approval: There is no change in the hours in the total estimated burden currently identified in the OMB Inventory of Approved ICR Burdens. The only changes are to the respondent costs as reflected by the increase in labor costs adjusted to 2004 dollars, an increase of $1,603,798 dollars (from $14,208,074 to $15,811,472 dollars).

Dated: July 25, 2005.
Oscar Morales,
Director, Collection Strategies Division.

[FR Doc. 05-15328 Filed 8-2-05; 8:45 am]

BILLING CODE 6560-50-P